ENVIRONMENTAL PROTECTION AGENCY

40 CFR Part 52

[DC101-2029; FRL-7791-9]

Approval and Promulgation of Air Quality Implementation Plans; District of Columbia; Update to Materials Incorporated by Reference

AGENCY: Environmental Protection Agency (EPA).

ACTION: Final rule; notice of administrative change.

SUMMARY: EPA is updating the materials submitted by the District of Columbia that are incorporated by reference (IBR) into the State implementation plan (SIP). The regulations affected by this update have been previously submitted by the State agency and approved by EPA. This update affects the SIP materials that are available for public inspection at the National Archives and Records Administration (NARA), the Air and Radiation Docket and Information Center located at EPA Headquarters in Washington, DC, and the EPA Regional Office.

DATES: This action is effective August 6, 2004.

ADDRESSES: SIP materials which are incorporated by reference into 40 CFR part 52 are available for inspection at the following locations: Air Protection Division, U.S. Environmental Protection Agency, Region III, 1650 Arch Street, Philadelphia, Pennsylvania 19103; the Air and Radiation Docket and Information Center, U.S. Environmental Protection Agency, 1301 Constitution Avenue, NW., Room B108, Washington, DC 20460; or the National Archives and Records Administration (NARA). For information on the availability of this material at NARA, call 202-741-6030, or go to: http://www.archives.gov/federal_register/code_of_federal_regulations/ibr_locations.html.

FOR FURTHER INFORMATION CONTACT: Harold A. Frankford, (215) 814-2108 or by e-mail at frankford.harold@epa.gov.

SUPPLEMENTARY INFORMATION: The SIP is a living document which the state can revise as necessary to address the unique air pollution problems in the State. Therefore, EPA from time to time must take action on SIP revisions containing new and/or revised regulations as being part of the SIP. On May 22, 1997 (62 FR 27968), EPA revised the procedures for incorporating by reference federally-approved SIPs, as a result of consultations between EPA and Office of the Federal Register (OFR). The description of the revised SIP document, IBR procedures and “Identification of plan” format are discussed in further detail in the May 22, 1997, Federal Register document.

On December 7, 1998 (63 FR 67407), EPA published a document in the Federal Register beginning the new IBR procedure for the District of Columbia. In this action, EPA is doing the following:

1. Announcing the first update to the material being IBR'ed.

2. Adding a § 52.470(e) which summarizes the non-regulatory actions that EPA has taken on the District of Columbia SIP.

3. Making corrections to the chart listed in § 52.470(c), as described below:

a. District of Columbia Municipal Regulations (DCMR), Title 20—Environment. This title is added to the chart.

b. Chapter 1 (General), second entry for Section 199 (Definitions and Abbreviations)—In the “EPA Approval Date” column, the date format is revised from “May 9, 2001” to “5/9/01”.

c. Chapter 2 (General and Non-attainment Area Permits), Section 204—The entry in the “Title/subject” column is revised.

d. Chapter 2, Section 8-2:720—The entry in the “State Citation” column is revised to read “Section 8-2:720(c)”; the entry in the “Comments” column is revised.

e. Chapter 4 (Ambient Monitoring, Emergency Procedures, Chemical Accident Prevention and Conformity), Section 400—The entry in the “Title/subject” column is revised.

f. Chapter 5 (Source Monitoring and Testing), Section 500—The entries in the “Title/subject” column are revised to read “Records and Reports”.

g. Chapter 5, Section 502.18—In the “EPA Approval Date” column, the date format is revised from “May 9, 2001” to “5/9/01”; the text in the “Additional Information” column is removed.

h. Chapter 7 (Volatile Organic Compounds), all entries except for Section 710—In the “EPA Approval Date” column, the Federal Register page citation is revised to read “64 FR 57777”.

i. Chapter 7, Section 701.1 through 701.3—In the “State citation” column, “701.3” is revised to read “703.13”.

j. Chapter 7, Sections 708 and 713—The entries in the “Title/subject” column are revised.

k. Chapter 8 (Asbestos, Sulfur, and Nitrogen Oxides), Section 805—In the “EPA Approval Date” column, the Federal Register page citation (65 FR 81369) is added and the word “Type:” is removed.

l. Chapter 9 (Motor Vehicle Pollutants, Lead, Odors, and Nuisance Pollutants), Section 904 (Oxygenated Fuels)—In the “EPA Approval Date” column, the date format is revised from “May 9, 2001” to “5/9/01” and the Federal Register page citation (66 FR 23614) is added.

m. Chapter 9—A companion entry to Section 915 (“Section 999—Definitions”), inadvertently omitted at the time that EPA approved the District's national low emissions vehicle (NLEV) program, is inserted into the paragraph (c) chart.

n. Chapter 10 (Nitrogen Oxides Emissions Budget Program)—In the “EPA Approval Date” column, the Federal Register publication date and page citation for EPA's approval action (12/22/00, 65 FR 80783) is added to the entries for Section 1001 through 1013 and Section 199. Also, the Federal Register page citation for EPA's approval action (66 FR 55099) is added to the entry for Section 1014 (NOX Budget Trading Program for State Implementation Plans).

o. Appendices—Appendix 3—The entry in the “Title/subject” column is revised.

p. Appendices—Appendix 5 (Test Methods for Sources of Volatile Organic Compounds)—In the “EPA Approval Date” column, the Federal Register page citation is revised to read “64 FR 57777”.

q. Title 18 (Vehicles and Traffic)—This title is revised to read “District of Columbia Municipal Regulations (DCMR), Title 18—Vehicles and Traffic”.

r. Title 18, all entries except for Chapter 6, Section 604 and Chapter 7, Section 753—In the “EPA Approval Date” column, the date format is revised from “June 11, 1999” to “6/11/99”, and the Federal Register page citation (64 FR 31498) is added.

s. Title 18, Chapter 99—In the “Comments” column, an entry is added.

4. Amending § 52.470(d), for the entry “General Services Administration Central Heating and Refrigeration Plant and West Heating Plant”, in the “EPA Approval Date” column, by revising the Federal Register publication date format from “Sept 30, 1999” to “9/30/99”, and adding the Federal Register page citation (64 FR 52654).

5. In the tables found in § 52.470(c) and (d), renaming the column heading entitled “Additional Information” to “Additional Explanation”.

EPA has determined that today's rule falls under the “good cause” exemption in section 553(b)(3)(B) of the Administrative Procedures Act (APA) which, upon finding “good cause,” authorizes agencies to dispense with public participation and section 553(d)(3) which allows an agency to make a rule effective immediately (thereby avoiding the 30-day delayed effective date otherwise provided for in the APA). Today's rule simply codifies provisions which are already in effect as a matter of law in Federal and approved State programs. Under section 553 of the APA, an agency may find good cause where procedures are “impractical, unnecessary, or contrary to the public interest”. Public comment is “unnecessary” and “contrary to the public interest” since the codification only reflects existing law. Immediate notice in the CFR benefits the public by removing outdated citations and incorrect chart entries.

Statutory and Executive Order Reviews

A. General Requirements

Under Executive Order 12866 (58 FR 51735, October 4, 1993), this action is not a “significant regulatory action” and therefore is not subject to review by the Office of Management and Budget. For this reason, this action is also not subject to Executive Order 13211, “Actions Concerning Regulations That Significantly Affect Energy Supply, Distribution, or Use” (66 FR 28355, May 22, 2001). This action merely approves State law as meeting Federal requirements and imposes no additional requirements beyond those imposed by State law. Accordingly, the Administrator certifies that this rule will not have a significant economic impact on a substantial number of small entities under the Regulatory Flexibility Act (5 U.S.C. 601 et seq.). Because this rule approves pre-existing requirements under State law and does not impose any additional enforceable duty beyond that required by State law, it does not contain any unfunded mandate or significantly or uniquely affect small governments, as described in the Unfunded Mandates Reform Act of 1995 (Pub. L. 104-4). This rule also does not have tribal implications because it will not have a substantial direct effect on one or more Indian tribes, on the relationship between the Federal government and Indian tribes, or on the distribution of power and responsibilities between the Federal government and Indian tribes, as specified by Executive Order 13175 (65 FR 67249, November 9, 2000). This action also does not have federalism implications because it does not have substantial direct effects on the States, on the relationship between the national government and the States, or on the distribution of power and responsibilities among the various levels of government, as specified in Executive Order 13132 (64 FR 43255, August 10, 1999). This action merely approves a State rule implementing a Federal standard, and does not alter the relationship or the distribution of power and responsibilities established in the Clean Air Act. This rule also is not subject to Executive Order 13045 “Protection of Children from Environmental Health Risks and Safety Risks” (62 FR 19885, April 23, 1997), because it is not economically significant.

In reviewing SIP submissions, EPA's role is to approve State choices, provided that they meet the criteria of the Clean Air Act. In this context, in the absence of a prior existing requirement for the State to use voluntary consensus standards (VCS), EPA has no authority to disapprove a SIP submission for failure to use VCS. It would thus be inconsistent with applicable law for EPA, when it reviews a SIP submission, to use VCS in place of a SIP submission that otherwise satisfies the provisions of the Clean Air Act. Thus, the requirements of section 12(d) of the National Technology Transfer and Advancement Act of 1995 (15 U.S.C. 272 note) do not apply. This rule does not impose an information collection burden under the provisions of the Paperwork Reduction Act of 1995 (44 U.S.C. 3501 et seq.).

B. Submission to Congress and the Comptroller General

The Congressional Review Act, 5 U.S.C. 801 et seq., as added by the Small Business Regulatory Enforcement Fairness Act of 1996, generally provides that before a rule may take effect, the agency promulgating the rule must submit a rule report, which includes a copy of the rule, to each House of the Congress and to the Comptroller General of the United States. EPA will submit a report containing this rule and other required information to the U.S. Senate, the U.S. House of Representatives, and the Comptroller General of the United States prior to publication of the rule in the Federal Register. This rule is not a “major rule” as defined by 5 U.S.C. 804(2).

C. Petitions for Judicial Review

EPA has also determined that the provisions of section 307(b)(1) of the Clean Air Act pertaining to petitions for judicial review are not applicable to this action. Prior EPA rulemaking actions for each individual component of the District of Columbia SIP compilations had previously afforded interested parties the opportunity to file a petition for judicial review in the United States Court of Appeals for the appropriate circuit within 60 days of such rulemaking action.

Thus, EPA sees no need in this action to reopen the 60-day period for filing such petitions for judicial review for these “Identification of plan” reorganization update actions for the District of Columbia.

List of Subjects in 40 CFR Part 52

Environmental protection, Air pollution control, Carbon monoxide, Incorporation by reference, Intergovernmental relations, Lead, Nitrogen dioxide, Ozone, Particulate matter, Reporting and record keeping requirements, Sulfur oxides, Volatile organic compounds.

Dated: July 15, 2004.
Thomas C. Voltaggio,
Acting Regional Administrator, Region III.

40 CFR part 52 is amended as follows:

PART 52—[AMENDED]

1. The authority for citation for part 52 continues to read as follows:

Authority: 42.U.S.C. 7401 et seq.

Subpart J—District of Columbia

2. Section 52.470 is amended by revising paragraphs (b), (c) and (d), and adding paragraph (e).

The paragraphs are revised to read as follows:

§ 52.470 Identification of plan.

* * * * *

(b) Incorporation by reference.

(1) Material listed as incorporated by reference in paragraphs (c) and (d) was approved for incorporation by reference by the Director of the Federal Register in accordance with 5 U.S.C. 552(a) and 1 CFR part 51. The material incorporated is as it exists on the date of the approval, and notice of any change in the material will be published in the Federal Register. Entries in paragraphs (c) and (d) of this section with EPA approval dates on or after June 1, 2004 will be incorporated by reference in the next update to the SIP compilation.

(2) EPA Region III certifies that the rules/regulations provided by EPA at the addresses in paragraph (b)(3) of this section are an exact duplicate of the officially promulgated State rules/regulations which have been approved as part of the State implementation plan as of June 1, 2004.

(3) Copies of the materials incorporated by reference may be inspected at the EPA Region III Office at 1650 Arch Street, Philadelphia, PA 19103; the EPA, Air and Radiation Docket and Information Center, Air Docket (6102), 1301 Constitution Avenue NW., Room B108, Washington, DC. 20460; or at the National Archives and Records Administration (NARA). For information on the availability of this material at NARA, call 202-741-6030, or go to: http://www.archives.gov/federal_register/code_of_federal_regulations/ibr_locations.html.

(c) EPA-approved regulations.

EPA-Approved District of Columbia Regulations
State citation | Title/subject | State effective date | EPA approval date | Additional explanation
District of Columbia Municipal Regulations (DCMR), Title 20—Environment
Chapter 1 General
Section 100 | Purpose, Scope and Construction | 3/15/85 | 8/28/95 60 FR 44431
Section 101 | Inspection | 3/15/85 | 8/28/95 60 FR 44431
Section 102 | Orders for Compliance | 3/15/85 | 8/28/95 60 FR 44431
Section 104 | Hearings | 3/15/85 | 8/28/95 60 FR 44431
Section 105 | Penalty | 3/15/85 | 8/28/95 60 FR 44431
Section 106 | Confidentiality of Reports | 3/15/85 | 8/28/95 60 FR 44431
Section 107 | Control Devices or Practices | 3/15/85 | 8/28/95 60 FR 44431
Section 199 | Definitions and Abbreviations | 4/29/97 | 7/31/97 62 FR 40937
Section 199 | Definitions and Abbreviations | 4/29/97 | 12/7/99 62 FR 68293 | Definitions of the terms: Actual emissions, allowable emissions, begin actual construction, commence, complete, major modification, necessary precon- struction approvals or permits, net emissions increase, new source, potential to emit, shutdown, and significant.
Section 199 | Definitions and Abbreviations | 12/8/00 | 5/9/01 66 FR 23614 | Definition of “carrier”.
Section 8-2: 702 | Definitions; definition of “stack” | 7/7/72 | 9/22/72 7 FR 19806 |
Section 8-2: 724 | Variances | 7/7/72 | 9/22/72 37 FR 19806 |
Chapter 2 General and Non-attainment Area Permits
Section 200 | General Permit Requirements | 4/29/97 | 7/31/97 62 FR 40937 |
Section 201 | General Requirements for Permit Issuance | 4/29/97 | 7/31/97 62 FR 40937 |
Section 202 | Modification, Revocation and Termination of Permits | 4/29/97 | 7/31/97 62 FR 40937 |
Section 204 | Permit Requirements for Sources Affecting Nonattainment Areas | 4/29/97 | 7/31/97 62 FR 40937
Section 206 | Notice and Comment Prior to Permit Issuance | 4/29/97 | 7/31/97 62 FR 40937
Section 299 | Definitions and Abbreviations | 4/29/97 | 7/31/97 62 FR 40937
Section 8-2:720(c) | Permits to Construct or Modify; Permits to Operate | 7/7/72 | 9/22/72 37 FR 19806 | Requirement for operating permit.
Chapter 4 Ambient Monitoring, Emergency Procedures, Chemical Accident Prevention and Conformity
Section 400 | Air Pollution Reporting Index | 3/15/85 | 8/28/95 602 FR 44431
Section 401 | Emergency Procedures | 3/15/85 | 8/28/95 60 FR 44431
Section 403 | Determining Conformity of Federal Actions to State or Federal Implementation Plans | 11/6/98 | 6/5/03 68 FR 33683
Section 499 | Definitions and Abbreviations | 3/15/85 | 8/28/95 60 FR 44431
Chapter 5 Source Monitoring and Testing
Sections 500.1 through 500.3 | Records and Reports | 3/15/97 | 8/28/95 60 FR 44431
Sections 500.4, 500.5 | Records and Reports | 9/30/93 | 1/26/95 60 FR 5134
Section 500.6 | Records and Reports | 9/30/93 | 10/27/99 64 FR 57777
Section 500.7 | Records and Reports—Emission Statements | 9/30/93 | 5/26/95 60 FR 27944
Section 501 | Monitoring Devices | 3/15/85 | 8/28/95 60 FR 44431
Sections 502.1 through 502.15 | Sampling, Tests and Measurements | 3/15/85 | 8/28/95 60 FR 44431 | Exceptions: Paragraphs 5.11, 5.12 and 5.14 are not part of the SIP.
Section 502.17 | Sampling, Tests and Measurements | 09/30/93 | 10/27/99 64 FR 57777
Section 502.18 | Sampling, Tests and Measurements | 12/8/00 | 5/9/01 66 FR 23614
Section 599 | Definitions and Abbreviations | 9/30/93 | 10/27/99 64 FR 57777
Chapter 6 Particulates
Section 600 | Fuel-Burning Particulate Emissions | 3/15/85 | 8/28/95 60 FR 44431
Section 601 | Rotary Cup Burners | 3/15/85 | 8/28/95 60 FR 44431
Section 602 | Incinerators | 3/15/85 | 8/28/95 60 FR 44431
Section 603 | Particulate Process Emissions | 3/15/85 | 8/28/95 60 FR 44431
Section 604 | Open Burning | 3/15/85 | 8/28/95 60 FR 44431
Section 605 | Control of Fugitive Dust | 3/15/85 | 8/28/95 60 FR 44431
Section 606 | Visible Emissions | 3/15/85 | 8/28/95 60 FR 44431
Section 699 | Definitions and Abbreviations | 3/15/85 | 8/28/95 60 FR 44431
Chapter 7 Volatile Organic Compounds
Section 700 | Organic Solvents | 3/15/85 | 10/27/99 64 FR 57777
Section 701.1 through 701.13 | Storage of Petroleum Products | 3/15/85 | 10/27/99 64 FR 57777
Section 702 | Control of VOC leaks from Petroleum Refinery Equipment | 3/15/85 | 10/27/99 64 FR 57777
Section 703.2, 703.3 | Terminal Vapor Recovery—Gasoline or VOCs | 3/15/85 | 10/27/99 64 FR 57777
Section 703.1, 703.4 through 703.7 | Terminal Vapor Recovery—Gasoline or VOCs | 9/30/93 | 10/27/99 64 FR 57777
Section 704 | Stage I—Vapor Recovery | 3/15/85 | 10/27/99 64 FR 57777
Section 705.1 through 705.3 | Stage II—Gasoline Vapor Recovery | 9/30/93 | 10/27/99 64 FR 57777
Section 705.4 through 705.14 | Stage II—Gasoline Vapor Recovery | 3/15/85 | 10/27/99 64 FR 57777
Section 706 | Petroleum Dry Cleaners | 3/15/85 | 10/27/99 64 FR 57777
Section 707 | Perchloroethylene Dry Cleaning | 3/15/85 | 10/27/99 64 FR 57777
Section 708 | Solvent Cleaning (Degreasing) | 3/15/85 | 10/27/99 64 FR 57777
Section 709 | Asphalt Operations | 3/15/85 | 10/27/99 64 FR 57777
Section 710 | Engraving and Plate Printing | 3/15/85 | 8/4/92 57 FR 34249
Section 711 | Pumps and Compressors | 3/15/85 | 10/27/99 64 FR 57777
Section 712 | Waste Gas Disposal from Ethylene Producing Plant | 3/15/85 | 10/27/99 64 FR 57777
Section 713 | Waste Gas Disposal from Vapor Blow-down Systems | 3/15/85 | 10/27/99 64 FR 57777
Section 715 | Reasonably Available Control Technology | 09/30/93 | 10/27/99 64 FR 57777
Section 716 | Offset Lithography | 10/2/98 | 10/27/99 64 FR 57777
Section 799 | Definitions and Abbreviations | 09/30/93 | 10/27/99 64 FR 57777
Chapter 8 Asbestos, Sulfur and Nitrogen Oxides
Section 801 | Sulfur Content of Fuel Oils | 3/15/85 | 8/28/95 60 FR 44431
Section 802 | Sulfur Content of Coal | 3/15/85 | 8/28/95 60 FR 44431
Section 803 | Sulfur Process Emissions | 3/15/85 | 8/28/95 60 FR 44431
Section 804 | Nitrogen Oxide Emissions | 3/15/85 | 8/28/95 60 FR 44431
Section 805 | Reasonably Available Control Technology for Major Stationary Sources of Oxides of Nitrogen | 11/19/93 and 12/8/00 | 12/26/00 65 FR 81369
Section 899 | Definitions and Abbreviations | 3/15/85 | 8/28/95 60 FR 44431
Chapter 9 Motor Vehicle Pollutants, Lead, Odors, and Nuisance Pollutants
Section 904 | Oxygenated Fuels | 7/25/97 | 5/9/01 66 FR 23614 | Addition of subsection 904.3 to make the oxygenated gasoline program a CO contingency measure.
Section 915 | National Low Emissions Vehicle Program | 2/11/00 | 7/20/00 65 FR 44981
Section 999 | Definitions and Abbreviations | 2/11/00 | 7/20/00 65 FR 44981
Chapter 10 Nitrogen Oxides Emissions Budget Program
Section 1000 | Applicability | 12/8/00 | 12/22/00 65 FR 80783
Section 1001 | General Provisions | 12/8/00 | 12/22/00 65 FR 80783
Section 1002 | Allowance Allocation | 12/8/00 | 12/22/00 65 FR 80783
Section 1003 | Permits | 12/8/00 | 12/22/00 65 FR 80783
Section 1004 | Allowance Transfer and Use | 12/8/00 | 12/22/00 65 FR 80783
Section 1005 | Allowance Banking | 12/8/00 | 12/22/00 65 FR 80783
Section 1006 | NOX Allowance Tracking system | 12/8/00 | 12/22/00 65 FR 80783
Section 1007 | Emission Monitoring | 12/8/00 | 12/22/00 65 FR 80783
Section 1008 | Record Keeping | 12/8/00 | 12/22/00 65 FR 80783
Section 1009 | Reporting | 12/8/00 | 12/22/00 65 FR 80783
Section 1010 | End-of-Season Reconciliation | 12/8/00 | 12/22/00 65 FR 80783
Section 1011 | Compliance Certification | 12/8/00 | 12/22/00 65 FR 80783
Section 1012 | Penalties | 12/8/00 | 12/22/00 65 FR 80783
Section 1013 | Program Audit | 12/8/00 | 12/22/00 65 FR 80783
Section 1014 | NOX Budget Trading Program for State Implementation Plans | 5/1/01 | 11/1/01 66 FR 55099
Section 1099 | Definitions and Abbreviations | 12/8/00 | 12/22/00 65 FR 80783
Appendices
Appendix 1 | Emission Limits for Nitrogen Oxide | 3/15/85 | 8/28/95 60 FR 44431
Appendix 2 | Table of Allowable Particulate Emissions from Process Sources | 3/15/85 | 8/28/95 60 FR 44431 |
Appendix 3 | Graphic Arts Sources | 3/15/85 | 8/28/95 60 FR 44431 |
Appendix 5 | Test Methods for Sources of Volatile Organic Compounds | 9/30/93 | 10/27/99 64 FR 57777 |
District of Columbia Municipal Regulations (DCMR), Title 18—Vehicles and Traffic
Chapter 4 Motor Vehicle Title and Registration
Section 411 | Registration of Motor Vehicles: General Provisions | 10/10/86 | 6/11/99 64 FR 31498 |
Section 412 | Refusal of Registration | 10/17/97 | 6/11/99 64 FR 31498 |
Section 413 | Application for Registration | 9/16/83 | 6/11/99 64 FR 31498 |
Section 429 | Enforcement of Registration and Reciprocity Requirements | 3/4/83 | 6/11/99 64 FR 31498 |
Chapter 6 Inspection of Motor Vehicles
Section 600 | General Provisions | 4/23/82 | 6/11/99 64 FR 31498 |
Section 602 | Inspection Stickers | 3/15/85 | 6/11/99 64 FR 31498 |
Section 603 | Vehicle Inspection: Approved Vehicles | 6/29/74; Recodified 4/1/81 | 6/11/99 64 FR 31498 |
Section 604 | Vehicle Inspection: Rejected Vehicles | 11/23/84 | 4/10/86 51 FR 12322 |
Section 606 | Vehicle Inspection: Condemned Vehicles | 6/29/74; Recodified 4/1/81 | 6/11/99 64 FR 31498 |
Section 607 | Placement of Inspection Stickers on Vehicles | 4/7/77; Recodified 4/1/81 | 6/11/99 64 FR 31498 |
Section 608 | Lost, Mutilated or Detached Inspection Stickers | 6/30/72; Recodified 4/1/81 | 6/11/99 64 FR 31498 |
Section 609 | Inspection of Non-Registered Motor Vehicles | 6/30/72 Recodified 4/1/81 | 6/11/99 64 FR 31498 |
Section 617 | Inspection Certification | 7/22/94 | 6/11/99 64 FR 31498 |
Section 618 | Automotive Emissions Repair Technician | 7/22/94 | 6/11/99 64 FR 31498 |
Section 619 | Vehicle Emission Recall Compliance | 10/17/97 | 6/11/99 64 FR 31498 |
Chapter 7 Motor Vehicle Equipment
Section 701 | Historic Motor Vehicles | 2/25/78; Recodified 4/1/81 | 6/11/99 64 FR 31498 |
Section 750 | Exhaust Emission Systems | 4/26/77; Recodified 4/1/81 | 6/11/99 64 FR 31498 |
Section 751 | Compliance with Exhaust Emission Standards | 7/22/94 | 6/11/99 64 FR 31498 |
Section 752 | Maximum Allowable Levels of Exhaust Components | 10/17/97 | 6/11/99 64 FR 31498 |
Section 753 | Inspection of Exhaust Emission Systems | 5/23/83 | 4/10/86 51 FR 12322 |
Section 754 | Federal Transient Emissions Test: Testing Procedures | 7/22/94 | 6/11/99 64 FR 31498 |
Section 755 | Federal Transient Emissions Test: Equipment | 7/22/94 | 6/11/99 64 FR 31498 |
Section 756 | Federal Transient Emissions Test: Quality Assurance Procedures | 7/22/94 | 6/11/99 64 FR 31498 |
Chapter 11 Motor Vehicle Offenses and Penalties
Section 1101 | Offenses Related to Title, Registration, and Identification Tags | 6/30/72; Recodified 4/1/81 | 6/11/99 64 FR 31498 |
Section 1103 | Offenses Related to Inspection Stickers | 6/30/72; Recodified 4/1/81 | 6/11/99 64 FR 31498 |
Section 1104 | False Statements, Alterations, Forgery, and Dishonest Checks | 11/29/91 | 6/11/99 64 FR 31498 |
Section 1110 | Penalties for Violations | 11/29/91 | 6/11/99 64 FR 31498 |
Chapter 26 Civil Fines for Moving and Non-Moving Violations
Section 2600.1 | Infraction: Inspection, Registration Certificate, Tags | 8/31/90 | 6/11/99 64 FR 31498 |
Chapter 99 Definitions
Section 9901 | Definitions | 10/1/97 | 6/11/99 64 FR 31498 | Definition of “Emission Recall Notice.”

(d) EPA-approved State source-specific requirements.

EPA-Approved District of Columbia Source-Specific Requirements
Name of source | Permit number | State effective date | EPA approval date | Additional explanation
General Services Administration Central Heating and Refrigeration Plant and West Heating Plant | N/A—it is the operating permit issued to GSA by the District of Columbia on October 17, 1997 | 10/17/97 | 9/30/99 64 FR 52654 | The following portions of GSA's operating permit are not included in the SIP: The portion of Condition 3 referring to Table 1; Table 1; Condition 4; Table 3; and Condition 17.

(e) EPA-approved non-regulatory and quasi-regulatory material.

Name of non-regulatory SIP revision | Applicable geographic area | State submittal date | EPA approval date | Additional explanation
1990 Base Year Emissions Inventory | Washington, DC carbon monoxide maintenance area | 1/13/94 10/12/95 | 1/30/96 61 FR 2931 | 52.474(a) CO.
1990 Base Year Emissions Inventory | Metropolitan Washington ozone nonattainment area | 1/13/94 | 4/23/97 62 FR 19676 | 52.474(b) VOC, NOX, CO.
1990 Base Year Emissions Inventory | Metropolitan Washington ozone nonattainment area | 11/3/97 | 7/8/98 63 FR 36854 | 52.474(c) VOC, NOX.
15% Rate of Progress Plan | Metropolitan Washington ozone nonattainment area | 4/16/98 | 08/05/1999 64 FR 42600 | 52.476(a).
Negative Declaration-VOC Source Categories | Metropolitan Washington ozone nonattainment area | 4/8/93 and 9/4/97 | 10/27/99 64 FR 57777 | 52.478(a), 52.478(b).
Photochemical Assessment Monitoring Stations (PAMS) Program | Metropolitan Washington ozone nonattainment area | 1/14/94 | 9/11/95 60 FR 47081 | 52.480.
Small Business stationary source technical and environmental compliance assistance program | Statewide | 10/22/93 | 8/17/94 59 FR 42165 | 52.510.
Establishment of air quality monitoring Network | Statewide | 5/16/79 | 8/31/81 46 FR 43676 | Subpart I, section 52.465(c)(18).
Lead (Pb) SIP | Washington, DC | 10/7/82 | 8/18/83 48 FR 37401 | 52.515(c)(22).
Plan for public notification of air quality | Metropolitan Washington ozone nonattainment area | 12/5/83 | 6/1/84 49 FR 22810 | 52.515(c)(23).
Revision for conflict of interest procedures [CAA Section 128 SIP] | Metropolitan Washington ozone nonattainment area | 12/6/83 | 6/1/84 49 FR 22810 | 52.515(c)(24).
Carbon Monoxide Maintenance Plan | Washington, DC | 10/12/95 | 1/30/96 61 FR 2931 | 52.515(c)(36).

[FR Doc. 04-17780 Filed 8-5-04; 8:45 am]

BILLING CODE 6560-50-P